DEPARTMENT OF ENERGY

Federal Energy Regulatory Commission

[Docket No. CP03-75-000]

Freeport LNG Development, L.P.; Notice of Availability of the Final Environmental Impact Statement for the Proposed Freeport LNG Project

May 28, 2004.

The staff of the Federal Energy Regulatory Commission (FERC or Commission) has prepared this final environmental impact statement (EIS) for the construction and operation of the liquefied natural gas (LNG) import terminal and natural gas pipeline facilities proposed by Freeport LNG Development, L.P. (Freeport LNG), referred to as the Freeport LNG Project, in the above-referenced docket.

The final EIS was prepared to satisfy the requirements of the National Environmental Policy Act (NEPA). The staff concludes that approval of the Freeport LNG Project, with appropriate mitigating measures as recommended, would have limited adverse environmental impact. The final EIS evaluates alternatives to the proposal, including system alternatives, alternative sites for the LNG import terminal, and pipeline alternatives.

The final EIS addresses the potential environmental effects of the construction and operation of the following facilities in Brazoria County, Texas.

• LNG ship docking and unloading facilities with a protected single berth equipped with mooring and breasting dolphins, three liquid unloading arms, and one vapor return arm;

• Reconfiguration of a storm protection levee and a permanent access road;

• Two 26-inch-diameter (32-inch outside diameter) LNG transfer lines, one 16-inch-diameter vapor return line, and service lines (instrument air, nitrogen, potable water, and firewater);

• Two double-walled LNG storage tanks each with a usable volume of 1,006,000 barrels (3.5 billion cubic feet of gas equivalent);

• Six 3,240 gallon-per-minute (gpm) in-tank pumps;

• Seven 2,315 gpm high-pressure LNG booster pumps;

• Three boil-off gas compressors and a condensing system;

• Six high-pressure LNG vaporizers using a primary closed circuit water/glycol solution heated with twelve water/glycol boilers during cold weather and a set of intermediate heat exchangers using a secondary circulating water system heated by an air tower during warm weather, and circulation pumps for both systems;

• Two natural gas superheaters and two fuel gas heaters;

• Ancillary utilities, buildings, and service facilities at the LNG terminal; and

• 9.6 miles of 36-inch-diameter natural gas pipeline extending from the LNG import terminal to a proposed Stratton Ridge Meter Station.

The purpose of the Freeport LNG Project is to provide the facilities necessary to deliver LNG to intrastate shippers, including the Dow Chemical Company and ConnocoPhillips, at the proposed Stratton Ridge Meter Station by 2007. Freeport LNG's proposed facilities would re-vaporize and transport up to 1.5 billion cubic feet of natural gas per day.

The final EIS has been placed in the public files of the FERC and is available for public inspection at: Federal Energy Regulatory Commission, Public Reference Room, 888 First St., NE., Room 2A, Washington, DC 20426; (202) 502-8371.

A limited number of copies of the final EIS are available from the Public Reference Room identified above. In addition, the final EIS has been mailed to Federal, State, and local agencies; elected officials; public libraries; newspapers; parties to the proceeding; and public interest groups, individuals, and affected landowners who requested a copy of the EIS.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission's decision for this proposed action is subject to a 30-day rehearing period.

Additional information about the Project is available from the Commission's Office of External Affairs, at 1-866-208-FERC or on the FERC Internet website (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or at FERCOnlineSupport@ferc.gov. The eLibrary link also provides access to the texts of formal documents issued by the Commission, such as orders, notices, and rulemakings.

Magalie R. Salas,
Secretary.

[FR Doc. E4-1261 Filed 6-7-04; 8:45 am]

BILLING CODE 6717-01-P